DEPARTMENT OF LABOR

Employment and Training Administration

[TA-W-51,218]

Oregon Screw Machine Products, Inc., Portland, OR; Notice of Termination of Investigation

Pursuant to section 221 of the Trade Act of 1974, an investigation was initiated on March 19, 2003, in response to a worker petition filed on behalf of workers at Oregon Screw Machine Products, Inc., Portland, Oregon.

The company has requested that the petition be withdrawn. Consequently, the investigation has been terminated.

Signed in Washington, DC, this 16th day of May, 2003.
Richard Church,
Certifying Officer, Division of Trade Adjustment Assistance.

[FR Doc. 03-13804 Filed 6-2-03; 8:45 am]

BILLING CODE 4510-30-P